NATIONAL SCIENCE FOUNDATION

Responsible Conduct of Research

AGENCY: National Science Foundation (NSF).

ACTION: Request for public comment on requirement for students and postdoctoral researchers involved in NSF proposals to be educated in the responsible and ethical conduct of research (RCR).

SUMMARY: The National Science Foundation (NSF) is soliciting public comment on the agency's proposed implementation of Section 7009 of the America Creating Opportunities to Meaningfully Promote Excellence in Technology, Education, and Science (COMPETES) Act (42 U.S.C. 1862o-1). This section of the Act requires that “each institution that applies for financial assistance from the Foundation for science and engineering research or education describe in its grant proposal a plan to provide appropriate training and oversight in the responsible and ethical conduct of research to undergraduate students, graduate students, and postdoctoral researchers participating in the proposed research project.”

SUPPLEMENTARY INFORMATION: Ethical and responsible conduct of research is critical for excellence, as well as public trust, in science and engineering. Consequently, education in the responsible and ethical conduct of research is considered essential in the preparation of future scientists and engineers. The COMPETES Act focuses public attention on the importance of the national research community's enduring commitment and broader efforts to provide RCR training as an integral part of the preparation and long-term professional development of current and future generations of scientists and engineers.

A wide array of information exists to help inform RCR training. For example, many professional societies as well as governmental licensing authorities for professional scientists and engineers have adopted policies or best practices that might be usefully considered. In addition, research is illuminating existing practices surrounding ethical issues, and providing an evaluation of pedagogical innovations in ethics education. A recent NSF-funded workshop entitled Ethics Education: What's Been Learned? What Should be Done? was held by the National Academies of Science & Engineering. Information about the workshop, as well as additional resources, are available at: http://www.nae.edu/nae/engethicscen.nsf/weblinks/NKAL-7LHM86?OpenDocument. A brief notice about the workshop's main themes is forthcoming in The Bridge, Volume 39, Number 1—Spring 2009, which will be available online in mid-March at: http://www.nae.edu/nae/bridgecom.nsf?OpenDatabase. NSF is adding “the responsible and ethical conduct of research” as a Representative Activity in the listing of Broader Impacts Representative Activities available electronically at http://www.nsf.gov/pubs/gpg/broaderimpacts.pdf.

NSF is committed to continue its funding of research in this important area through programs such as Ethics Education in Science and Engineering (http://www.nsf.gov/funding/pgm_summ.jsp?pims_id=13338&org=NSF&sel_org=NSF&from=fund) and to promote the development and implementation of effective practices through its education and training programs. The agency will also continue to explore other mechanisms to support the academic community's efforts in providing training in the responsible and ethical conduct of research.

Proposed Implementation Plan: Effective October 1, 2009, NSF will require that at the time of proposal submission to NSF, a proposing institution's Authorized Organizational Representative must certify that the institution has a plan to provide appropriate training and oversight in the responsible and ethical conduct of research to undergraduates, graduate students, and postdoctoral researchers who will be supported by NSF to conduct research. While training plans are not required to be included in proposals submitted, institutions are advised that they are subject to review upon request. NSF will modify its standard award conditions to clearly stipulate that institutions are responsible for verifying that undergraduate students, graduate students, and postdoctoral researchers supported by NSF to conduct research have received RCR training.

In addition, NSF will support the development of an online digital library containing research findings, pedagogical materials, and promising practices regarding the ethical and responsible conduct of research in science and engineering. The development and evolution of the digital library will be informed by the research communities that NSF supports, and it will serve as a living resource of multimedia materials that may be used to train current and future generations of scientists and engineers in the responsible and ethical conduct of research.

Invitation to Comment: The Foundation welcomes public comment on any aspect of the proposed Implementation Plan. Issues that responders may wish to address include, but are not limited to, the following:

• What challenges do institutions face in meeting the new RCR requirement?

• What role should Principal Investigators play in meeting NSF's RCR requirement?

• There are likely to be differences in the RCR plans that institutions develop to respond to this new requirement. What are the pros and cons of exploring a diversity of approaches?

• How might online resources be most effective in assisting with training students and postdocs in the responsible and ethical conduct of research?

• Discuss possible approaches to verifying that the requisite RCR training has been provided.

Comments: Comments regarding NSF's proposed implementation should be e-mailed to RCRinput@nsf.gov by March 31, 2009. Please include your comments in the body of the e-mail and in an attachment. Include your name, title, organization, postal address, telephone number, and e-mail address in your message.

FOR FURTHER INFORMATION CONTACT: For information on the NSF's implementation of the America COMPETES Act, contact Jean Feldman; Head, Policy Office, Division of Institution & Award Support; National Science Foundation; 4201 Wilson Blvd.; Arlington, VA 22230; e-mail: jfeldman@nsf.gov; telephone: (703) 292-8243; fax: (703) 292-9171.

Dated: February 23, 2009.
Suzanne H. Plimpton,
Reports Clearance Officer, National Science Foundation.

[FR Doc. E9-4100 Filed 2-25-09; 8:45 am]

BILLING CODE 7555-01-P